DEPARTMENT OF ENERGY

[GDO Docket No. EA-498-A]

Application for Amended Authorization To Export Electric Energy; NRG Business Marketing LLC

AGENCY: Grid Deployment Office, Department of Energy.

ACTION: Notice of application.

SUMMARY: NRG Business Marketing LLC (the Applicant or NRGBM), formerly known as Direct Energy Business Marketing, LLC (DEBM), has applied for amended authorization to transmit electric energy from the United States to Canada pursuant to the Federal Power Act.

DATES: Comments, protests, or motions to intervene must be submitted on or before February 26, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On March 31, 2023, DEBM applied for authorization to transmit electric energy from the United States to Canada as a power marketer for a term of five years. On September 13, 2023, DOE issued EA-498, granting DEBM its requested permission. See EA-498. On December 29, 2023, NRGBM filed an application with DOE (Application or App.) to amend the authorization to reflect DEBM's name change to NRGBM. See App. at 1.

The Application states that on July 31, 2023, DEBM changed its name to NRGBM. App. at 1. NRGBM notes that “[t]his action was solely a name change” and there were “no changes to the corporate structure, governance, or ownership of the LLC.” Id. at 2. The Application reflects that the other information concerning the subject exports provided in DEBM's initial application for authorization, approved in EA-497, remains unchanged. See Id. at 1-4.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning NRGBM's Application should be clearly marked with GDO Docket No. EA-498-A. Additional copies are to be provided directly to Ryan Harwell, Manager, Regulatory Licensing & Reporting, NRG Business Marketing LLC, 910 Louisiana Street, Suite B200, Houston, Texas 77002, ryan.harwell@nrg.com, and Ryan C. Norfolk, Baker Botts LLP, 700 K Street NW, Washington, DC 20001, ryan.norfolk@bakerbotts.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on January 30, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on February 6, 2024.
Treena V. Garrett,
Federal Register Liaison Officer, U.S. Department of Energy.

[FR Doc. 2024-02679 Filed 2-8-24; 8:45 am]

BILLING CODE 6450-01-P